DEPARTMENT OF THE INTERIOR

Fish and Wildlife Service

Information Collection Sent to the Office of Management and Budget (OMB) for Approval; OMB Control Number 1018-0014; Special Use Permit Applications for National Wildlife Refuges in Alaska

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on September 30, 2006. We may not conduct or sponsor and a person is not required to respond to a collection of information unless it displays a currently valid OMB control number. However, under OMB regulations, we may continue to conduct or sponsor this information collection while it is pending at OMB.

DATES: You must submit comments on or before October 27, 2006.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey at one of the addresses above or by telephone at (703) 358-2482.

SUPPLEMENTARY INFORMATION: OMB Control Number: 1018-0014.

Title: Special Use Permit Application for National Wildlife Refuges in Alaska (50 CFR 25.61, 26.22(b), 26.25, 36.33, 36.37, 36.39, and 36.41).

Service Form Number(s): 3-2001.

Type of Request: Revision of a currently approved collection.

Affected Public: Individuals; businesses and other for-profit institutions; not-for-profit institutions; State, local, or tribal governments; and the Federal Government.

Respondent's Obligation: Required to obtain or retain benefits.

Frequency of Collection: On occasion.

Type of permit application | Number of annual respondents | Number of annual responses | Completion time per response | Annual burden hours
Noncompetitive—Kodiak | 240 | 240 | 20 minutes | 80
Noncompetitive—Other | 120 | 170 | 90 minutes | 255
Competitive | 80 | 180 | 30 hours | 5,400
Totals | 440 | 590 |  | 5,735

Abstract: We collect information from individuals or organizations that apply for a special use permit required to conduct economic or other privileged or specialized uses on National Wildlife Refuge System lands in Alaska. We use the information to:

(1) Determine if the applicant is qualified or eligible for a permit.

(2) Evaluate the impacts of the proposed activity on refuge resources and other users.

(3) Determine if the proposed activity is compatible with refuge purposes and the mission of the refuge system.

Comments: On May 26, 2006, we published in the Federal Register (71 FR 30439) a notice of our intent to request that OMB renew approval for this information collection. In that notice, we solicited comments for 60 days, ending on July 25, 2006. We received two comments from the same individual. The comments did not address issues surrounding the proposed collection of information or the cost and hour burden estimates, but instead objected to our issuing permits for guided hunting. The commenter also questioned who verified the information submitted in the application, and suggested requesting additional information for two of the application items. If we include the suggested additional information on our application, we would collect information in excess of the minimum necessary to fulfill our statutory and regulatory requirements and responsibilities. Therefore, we have not made any changes to FWS Form 3-2001 as a result of these comments.

We again invite comments concerning this information collection on:

(1) Whether or not the collection of information is necessary, including whether or not the information will have practical utility;

(2) the accuracy of our estimate of the burden for this collection of information;

(3) ways to enhance the quality, utility, and clarity of the information to be collected; and

(4) ways to minimize the burden of the collection of information on respondents. Comments submitted in response to this notice are a matter of public record.

Dated: August 10, 2006.
Hope Grey,
Information Collection Clearance Officer, Fish and Wildlife Service.

[FR Doc. E6-15788 Filed 9-26-06; 8:45 am]

BILLING CODE 4310-55-P